Title 3—

The President

Proclamation 8053 of September 15, 2006

Literacy Day, 2006

By the President of the United States of America

A Proclamation

The ability to read is the gateway to educational excellence and a key to success in any democratic society. On Literacy Day, we recognize the vital importance of literacy to our Nation and affirm our commitment to helping improve the lives of the men, women, and children in America and around the world who cannot read.

Our society has a responsibility to ensure individuals have the educational opportunities to learn to read. Literacy is a basic requirement for healthy societies and enables people to better care for themselves and their families. Reading also encourages participation in the democratic process and helps people reach their full potential through self-reliance and independence.

My Administration is committed to helping children and adults gain the reading skills they need to succeed in life. Through No Child Left Behind programs such as Reading First, Early Reading First, and Striving Readers, we are challenging the soft bigotry of low expectations and helping to provide students with the foundation to achieve their dreams. Reading also helps adults to be better consumers, and wider literacy increases economic participation, which helps to create more stable and vibrant economies. The White House Conference on Global Literacy, led by First Lady Laura Bush, is working to promote literacy for individuals of all ages and help give people around the world the skills necessary for success. By increasing literacy, we can help change lives and equip all people with the knowledge and tools to excel in the 21st century.

On Literacy Day, we recognize the great value of reading and encourage individuals around the world to take an active role in promoting literacy. Together, we can build a stronger society and a bright future for people everywhere.

NOW, THEREFORE, I, GEORGE W. BUSH, President of the United States of America, by virtue of the authority vested in me by the Constitution and laws of the United States, do hereby proclaim September 18, 2006, as Literacy Day. I call upon the people of the United States to observe this day with programs and activities that advance literacy for Americans and all the people of the world. By donating books to local libraries, volunteering to tutor, supporting international literacy programs, and fostering a learning environment in the home, citizens across this great Nation can make a difference and help their fellow Americans and people throughout the world enjoy the benefits of literacy.

IN WITNESS WHEREOF, I have hereunto set my hand this fifteenth day of September, in the year of our Lord two thousand six, and of the Independence of the United States of America the two hundred and thirty-first.

[FR Doc. 06-7953

Filed 9-19-06; 8:45 am]

Billing code 3195-01-P